DEPARTMENT OF TRANSPORTATION

National Highway Traffic Safety Administration

[Docket No. NHTSA-2008-0048; Notice 2]

Hyundai Motor Company, Grant of Petition for Decision of Inconsequential Noncompliance

Hyundai Motor Company (Hyundai), has determined that certain vehicles that it manufactured during the period beginning July 14, 2006 through November 23, 2007, did not fully comply with paragraph S9.5 of 49 CFR 571.225 (Federal Motor Vehicle Safety Standard (FMVSS) No. 225 Child Restraint Anchorage Systems). On November 28, 2007 Hyundai filed an appropriate report pursuant to 49 CFR Part 573, Defect and Noncompliance Responsibility and Reports.

Pursuant to 49 U.S.C. 30118(d) and 30120(h) and the rule implementing those provisions at 49 CFR Part 556, Hyundai has petitioned for an exemption from the notification and remedy requirements of 49 U.S.C. Chapter 301 on the basis that this noncompliance is inconsequential to motor vehicle safety. Notice of receipt of the petition was published, with a 30-day public comment period, on March 25, 2008 in the Federal Register (73 FR 15835). No comments were received. To view the petition and all supporting documents log onto the Federal Docket Management System (FDMS) Web site at: http://www.regulations.gov/. Then follow the online search instructions to locate docket number “NHTSA-2008-0048.”

For further information on this decision, contact Mr. Ed Chan, Office of Vehicle Safety Compliance, the National Highway Traffic Safety Administration (NHTSA), telephone (202) 493-0335, facsimile (202) 366-3081.

Affected are approximately 115,000 model years 2007 and 2008 Hyundai Elantra passenger cars produced beginning July 14, 2006 through November 23, 2007.

Paragraph S9.5 of 49 CFR 571.225 requires in pertinent part that:

S9.5 Marking and conspicuity of the lower anchorages. Each vehicle shall comply with S9.5(a) or (b).

(a) Above each bar installed pursuant to S4, the vehicle shall be permanently marked with a circle:

(1) That is not less than 13 mm in diameter;

(2) That is either solid or open, with or without words, symbols or pictograms, provided that if words, symbols or pictograms are used, their meaning is explained to the consumer in writing, such as in the vehicle's owners manual; and

(3) That is located such that its center is on each seat back between 50 and 100 mm above or on the seat cushion 100 (±) 25 mm forward of the intersection of the vertical transverse and horizontal longitudinal planes intersecting at the horizontal centerline of each lower anchorage, as illustrated in Figure 22. The center of the circle must be in the vertical longitudinal plane that passes through the center of the bar (±25 mm).

(4) The circle may be on a tag.

(b) The vehicle shall be configured such that the following is visible: Each of the bars installed pursuant to S4, or a permanently attached guide device for each bar. The bar or guide device must be visible without the compression of the seat cushion or seat back, when the bar or device is viewed, in a vertical longitudinal plane passing through the center of the bar or guide device, along a line making an upward 30 degree angle with a horizontal plane. Seat backs are in the nominal design riding position. The bars may be covered by a removable cap or cover, provided that the cap or cover is permanently marked with words, symbols or pictograms whose meaning is explained to the consumer in written form as part of the owner's manual.

Hyundai described the noncompliance as the failure to provide specific written explanation of the meaning of the pictogram that appears on the lower anchorage identification circles in the owner's manuals provided with the affected vehicles.

Hyundai explained its belief that paragraph S9.5 of FMVSS No. 225 requires that above each child restraint lower anchorage the vehicle shall be permanently marked with: A circle that is not less than 13 mm in diameter, that is either solid or open, with or without words, symbols or pictograms, provided that if words, symbols or pictograms are used, their meaning is explained to the consumer in writing, such as in the vehicle's owner's manual.

Hyundai also explained that the owner's manuals of the affected vehicles contain a section titled “Child seat lower anchorages” that provides illustrations indicating the locations of the child restraint lower anchorages and written descriptions of the locations of the child restraint lower anchorages. Hyundai expressed its belief that the vehicles are properly marked, as required by paragraph S9.5 of FMVSS No. 225, with solid circles to identify the locations of the lower anchorages. Hyundai also stated that those solid circles contain pictograms, which represent a child seated in a child restraint. However, the owner's manuals provided with the affected vehicles do not contain a specific written explanation of the meaning of the pictogram that appears on the identification circles.

Hyundai states that it believes the noncompliance is inconsequential to motor vehicle safety for the following reasons:

(1) When the requirements of paragraph S9.5 were first implemented over 7 years ago, there may have been the potential to misunderstand the newly adopted child restraint lower anchorage identification mark. Therefore, NHTSA decided that a circle must be used, to standardize the symbol used to identify the anchorages, because standardization would likely increase user recognition of the symbol. The standardized circle has now appeared in almost every U.S. vehicle for more than 7 years, allowing the public to gain familiarity with its purpose. In reference to the identification circles, FMVSS 225 No. S9.5(a)(2) states that they may be “with or without words, symbols or pictograms”. If the identification circle does not contain any pictogram, it does not require a written explanation.

(2) The simple pictogram representing a child seated in a child restraint enhances the identification provided by the circle. The missing written explanation of the meaning of the pictogram does not affect the ability of a person to locate the lower anchorages, aided by the visual indication of the identification circles and the illustrations and written explanations provided in the owner's manual, and does not affect the ability of the lower anchorages to properly secure a child restraint.

In addition, Hyundai stated that even though it will include a written explanation in future printings of the subject owner's manual, it strongly believes that the missing written explanation is an inconsequential noncompliance that poses no threat to the safety of its customers.

Hyundai also states that no customer complaints have been received related to the lack of a written explanation of the meaning of the pictogram or any problems that may have resulted from the lack of a written explanation of the meaning of the pictogram.

Hyundai requested that NHTSA consider its petition and grant an exemption from the recall requirements of the National Traffic and Motor Vehicle Safety Act on the basis that the noncompliance described above is inconsequential as it relates to motor vehicle safety.

NHTSA Decision

NHTSA agrees with Hyundai that the noncompliance is inconsequential to motor vehicle safety.

The pictogram that Hyundai imprinted on the lower anchorage identification circles is designated by the ISO (the International Organization for Standardization), a worldwide federation of national standards bodies, as a “child seat” ¹ symbol for use in road vehicle controls, indicators and tell-tales.

¹ ISO 2575: Road vehicles—Symbols for controls, indicators and tell-tales.

Although a description of the pictogram in the owner's manual can improve a user's recognition of the purpose for the lower anchorages, we think the risk created by this particular noncompliance is negligible with no impact on child occupant safety.

In consideration of the foregoing, NHTSA has decided that Hyundai has met its burden of persuasion that the labeling noncompliances described are inconsequential to motor vehicle safety. Accordingly, Hyundai's petition is granted and the petitioner is exempted from the obligation of providing notification of, and a remedy for, the noncompliances under 49 U.S.C. 30118 and 30120.

Authority: 49 U.S.C. 30118, 30120; delegations of authority at 49 CFR 1.50 and 501.8.

Issued on: June 27, 2008.
Daniel C. Smith,
Associate Administrator for Enforcement.

[FR Doc. E8-15130 Filed 7-2-08; 8:45 am]

BILLING CODE 4910-59-P